DEPARTMENT OF COMMERCE

International Trade Administration

[A-549-502]

Circular Welded Carbon Steel Pipes and Tubes From Thailand: Preliminary Results of Antidumping Duty Administrative Review and Preliminary Determination of No Shipments; 2019-2020

AGENCY: Enforcement and Compliance, International Trade Administration, U.S. Department of Commerce.

SUMMARY: The Department of Commerce (Commerce) preliminarily finds that Saha Thai Steel Pipe Public Co., Ltd. (Saha Thai), and 26 non-examined companies, made sales of subject merchandise at less than normal value during the period of review (POR) March 1, 2019, through February 29, 2020. We further preliminarily determine that Blue Pipe Steel Center (Blue Pipe) and K Line Logistics (Thailand) Ltd. (K-Line) had no shipments during the POR. We invite interested parties to comment on these preliminary results.

DATES: Applicable June 8, 2021.

FOR FURTHER INFORMATION CONTACT: William Langley or Thomas Schauer, AD/CVD Operations, Office I, Enforcement and Compliance, International Trade Administration, U.S. Department of Commerce, 1401 Constitution Avenue NW, Washington, DC 20230; telephone: (202) 482-3861 or (202) 482-0410, respectively.

SUPPLEMENTARY INFORMATION:

Background

In accordance with section 751(a)(2) of the Tariff Act of 1930, as amended (the Act), Commerce is conducting an administrative review of the antidumping duty order on circular welded carbon steel pipes and tubes (pipes and tubes) from Thailand. On May 6, 2020, in accordance with 19 CFR 251.221(c)(1)(i), we initiated the administrative review of the order ¹ on 29 companies, including Blue Pipe, K-Line, and Saha Thai, which were selected for individual examination.²

¹ See Initiation of Antidumping and Countervailing Duty Administrative Reviews, 88 FR 26931 (May 6, 2020).

² See Memorandum, “Circular Welded Carbon Steel Pipes and Tubes from Thailand: Respondent Selection,” dated October 13, 2020.

On April 24, 2020, Commerce exercised its discretion to toll all deadlines in administrative reviews by 50 days.³ On July 21, 2020, Commerce tolled all deadlines in preliminary and final results of administrative reviews by an additional 60 days.⁴ On October 3, 2020, Commerce further extended the deadline for the preliminary results of this administrative review by 120 days, until June 1, 2021.⁵ For a complete description of the events between the initiation of this review and these preliminary results, see the Preliminary Decision Memorandum.⁶

³ See Memorandum, “Tolling of Deadlines for Antidumping and Countervailing Duty Administrative Reviews in Response to Operational Adjustments Due to COVID-19 Government,” dated April 24, 2020.

⁴ See Memorandum, “Tolling of Deadlines for Antidumping and Countervailing Duty Administrative Reviews,” dated July 21, 2020.

⁵ See Memorandum, “Certain Welded Carbon Steel Pipes and Tubes from Thailand: Extension of Deadline for Preliminary Results of Antidumping Duty Administrative Review; 3/1/2019-2/29/2020,” dated January 21, 2021.

⁶ See Memorandum, “Circular Welded Carbon Steel Pipes and Tubes from Thailand: Decision Memorandum for the Preliminary Results of Antidumping Duty Administrative Review, and Preliminary Determination of No Shipments; 2018-2019,” dated concurrently with, and hereby adopted by, this notice (Preliminary Decision Memorandum).

Scope of the Order

The products covered by the antidumping order are pipes and tubes from Thailand. For a full description of the scope of this order, see the Preliminary Decision Memorandum.⁷

⁷ See Preliminary Decision Memorandum at “Scope of the Order.”

Methodology

Commerce conducted this review in accordance with section 751(a)(2) of the Act. Export price is calculated in accordance with section 772 of the Act. Normal value is calculated in accordance with section 773 of the Act.

For a full description of the methodology underlying these preliminary results, see the Preliminary Decision Memorandum. A list of topics discussed in the Preliminary Decision Memorandum is attached in the appendix to this notice. The Preliminary Decision Memorandum is a public document and is on file electronically via Enforcement and Compliance's Antidumping and Countervailing Duty Centralized Electronic Service System (ACCESS). ACCESS is available to registered users at http://access.trade.gov. In addition, the signed Preliminary Decision Memorandum can be accessed directly at http://enforcement.trade.gov/frn/.

Preliminary Determination of No Shipments

Commerce selected Blue Pipe as a mandatory respondent because it and Saha Thai accounted for the largest volume of subject merchandise during the POR. Blue Pipe reported that its supplier, Saha Thai, had knowledge of the final destination of the subject merchandise that they produced and sold to Blue Pipe, and which Blue Pipe resold to U.S. customers during the POR, which Saha Thai confirmed in its responses.⁸ Blue Pipe and Saha Thai provided sales documentation as evidence in support of their claim.⁹ Because the evidence on the record demonstrates that Saha Thai had knowledge that the final destination of the subject merchandise was to customers in the United States, we preliminarily determine that Blue Pipe had no shipments of subject merchandise during the POR. We intend to instruct CBP at the final results to liquidate any existing entries of merchandise produced by Saha Thai and entered into the United States as having been exported by Blue Pipe at the rate applicable to Saha Thai.¹⁰

⁸ See Blue Pipe's Letter, “Circular Welded Carbon Steel Pipes and Tubes from Thailand: Section A Questionnaire Response,” dated November 10, 2020 at 22; and Saha Thai's Letter, “Saha Thai's Section A Questionnaire Response Circular Welded Carbon Steel Pipe and Tubes from Thailand (AR 19-20),” dated November 10, 2020 at 19 and 24-25; see also Blue Pipe's Letter, “Circular Welded Carbon Steel Pipes and Tubes from Thailand: 1st Supplemental Questionnaire Response—Part 2,” dated March 1, 2021 at 2-3 and Exhibits 3-4; and Saha Thai's Letter, “Saha Thai's Supplemental Questionnaire Response Circular Welded Carbon Steel Pipe and Tubes from Thailand (AR 19-20),” dated February 24, 2021 at 5-6 and Exhibits 5-10.

⁹ Id.

¹⁰ See, e.g., Certain Steel Nails from Taiwan: Final Results of Antidumping Duty Administrative Review and Final Determination of No Shipments; 2018-2019, 85 FR 76014, 76015 (November 27, 2020).

Based on an analysis of U.S. Customs and Border Protection (CBP) information, and comments provided by interested parties regarding the CBP data, Commerce preliminarily determines that K-Line had no shipments during the POR. For additional information regarding this determination, see the Preliminary Decision Memorandum.

Preliminary Results of Review

Commerce preliminarily determines that the following weighted-average dumping margins exist for the period March 1, 2019, through February 29, 2020:

Producer or exporter | Weighted- average dumping margin (percent)
Saha Thai Steel Pipe Public Company, Ltd | 7.23
Apex International Logistics | 7.23
Aquatec Maxcon Asia | 7.23
Asian Unity Part Co., Ltd | 7.23
Bis Pipe Fitting Industry Co., Ltd | 7.23
Chuhatsu (Thailand) Co., Ltd | 7.23
CSE Technologies Co., Ltd | 7.23
Expeditors International (Bangkok) | 7.23
Expeditors Ltd | 7.23
FS International (Thailand) Co., Ltd | 7.23
Kerry-Apex (Thailand) Co., Ltd | 7.23
Oil Steel Tube (Thailand) Co., Ltd | 7.23
Otto Ender Steel Structure Co., Ltd | 7.23
Pacific Pipe and Pump | 7.23
Pacific Pipe Public Company Limited | 7.23
Panalpina World Transport Ltd | 7.23
Polypipe Engineering Co., Ltd | 7.23
Schlumberger Overseas S.A. | 7.23
Siam Fittings Co., Ltd | 7.23
Siam Steel Pipe Co., Ltd | 7.23
Sino Connections Logistics (Thailand) Co., Ltd | 7.23
Thai Malleable Iron and Steel | 7.23
Thai Oil Group | 7.23
Thai Oil Pipe Co., Ltd | 7.23
Thai Premium Pipe Co., Ltd | 7.23
Vatana Phaisal Engineering Company | 7.23
Visavakit Patana Corp., Ltd | 7.23

Rate for Non-Examined Companies

The statute and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value investigation, for guidance when calculating the weighted-average dumping margin for companies which were not selected for individual examination in an administrative review. Under section 735(c)(5)(A) of the Act, the all-others rate is normally an amount equal to the weighted average of the estimated weighted-average dumping margins established for exporters and producers individually investigated, excluding rates that are zero, de minimis (i.e., less than 0.5 percent) or determined entirely on the basis of facts available.

Consistent with section 735(c)(5)(A) of the Act, we determined the weighted-average dumping margin for each of the non-selected companies by using the weighted-average dumping margin calculated for Saha Thai in this administrative review.

Assessment Rates

Upon completion of this administrative review, Commerce shall determine and CBP shall assess antidumping duties on all appropriate entries. If an examined respondent's weighted-average dumping margin is not zero or de minimis in the final results of this review, we will calculate importer-specific ad valorem assessment rates on the basis of the ratio of the total amount of dumping calculated for an importer's examined sales and the total entered value of such sales in accordance with 19 CFR 351.212(b)(1). For non-examined respondents, Commerce shall direct CBP to assess antidumping duties at an ad valorem rate equal to the company-specific weighted-average dumping margin determined in the final results of this review. Where either the respondent's weighted-average dumping margin is zero or de minimis within the meaning of 19 CFR 351.106(c), or an importer-specific assessment rate is zero or de minimis, we will instruct CBP to liquidate the appropriate entries without regard to antidumping duties.

Commerce clarified its “automatic assessment” regulation on May 6, 2003.¹¹ This clarification applies to entries of subject merchandise during the POR produced by Saha Thai for which it did not know its merchandise was destined for the United States. In such instances, we will instruct CBP to liquidate unreviewed entries at the all-others rate if there is no rate for the intermediate company(ies) involved in the transaction.

¹¹ For a full discussion of this clarification, see Antidumping and Countervailing Duty Proceedings: Assessment of Antidumping Duties, 68 FR 23954 (May 6, 2003).

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication of the final results of this administrative review, as provided for by section 751(a)(2)(C) of the Act: (1) The cash deposit rate for the companies under review will be equal to the weighted-average dumping margin established in the final results of this review (except, if that rate is de minimis, then the cash deposit rate will be zero); (2) for previously reviewed or investigated companies not listed in the final results of this review, including those for which Commerce may determine had no shipments during the POR, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 15.67 percent that was established in the less-than-fair-value investigation.¹² These deposit requirements, when imposed, shall remain in effect until further notice.

¹² See Antidumping Duty Order: Circular Welded Carbon Steel Pipes and Tubes from Thailand, 51 FR 8341 (March 11, 1986).

Disclosure and Public Comment

We intend to disclose the calculations performed to parties in this proceeding within five days after public announcement of the preliminary results in accordance with 19 CFR 351.224(b). Interested parties may submit case briefs not later than the date which Commerce will announce subsequent to this notice. Rebuttal briefs, limited to issues raised in the case briefs, may be filed not later than seven days after the date for filing case briefs.¹³ Parties who submit case briefs or rebuttal briefs in this proceeding are encouraged to submit with each argument: (1) A statement of the issue; (2) a brief summary of the argument; and (3) a table of authorities.¹⁴ Case and rebuttal briefs should be filed using ACCESS ¹⁵ and must be served on interested parties.¹⁶ Executive summaries should be limited to five pages total, including footnotes.

¹³ See Temporary Rule Modifying AD/CVD Service Requirements Due to COVID-19; Extension of Effective Period, 85 FR 41363 (July 10, 2020) (Temporary Rule).

¹⁴ See 19 CFR 351.303 (for general filing requirements).

¹⁵ See generally 19 CFR 351.303.

¹⁶ See 19 CFR 351.303(f).

Pursuant to 19 CFR 351.310(c), interested parties who wish to request a hearing, must submit a written request to the Assistant Secretary for Enforcement and Compliance, filed electronically via Commerce's electronic records system, ACCESS. Requests should contain: (1) The party's name, address and telephone number; (2) the number of participants; and (3) a list of issues to be discussed. Issues raised in the hearing will be limited to those raised by each party in their respective case brief.

Note that Commerce has temporarily modified certain of its requirements for serving documents containing business proprietary information, until further notice.¹⁷ An electronically filed document must be received successfully in its entirety in ACCESS by 5 p.m. Eastern Time within 30 days after the date of publication of this notice.

¹⁷ See Temporary Rule.

Commerce intends to issue the final results of this administrative review, including the results of its analysis of the issues raised in any written briefs, not later than 120 days after the date of publication of this notice, unless extended, pursuant to section 751(a)(3)(A) of the Act.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: June 1, 2021.
Christian Marsh,
Acting Assistant Secretary for Enforcement and Compliance.

Appendix

List of Topics Discussed in the Preliminary Decision Memorandum

I. Summary

II. Background

III. Scope of the Order

IV. Preliminary Determination of No Shipments

V. Comparison to Normal Value

VI. Particular Market Situation

VII. Product Comparisons

VIII. Determination Not to Select TPP as a Voluntary Respondent

IX. Discussion of Methodology

X. Recommendation

[FR Doc. 2021-11922 Filed 6-7-21; 8:45 am]

BILLING CODE 3510-DS-P